DEPARTMENT OF COMMERCE

International Trade Administration

[C-533-868]

Welded Stainless Pressure Pipe From India: Rescission of Countervailing Duty Administrative Review; 2016

AGENCY: Enforcement and Compliance, International Trade Administrative, Department of Commerce.

SUMMARY: The Department of Commerce (Commerce) is rescinding the administrative review of the countervailing duty order on welded stainless pressure pipe (WSPP) from India covering the period March 11, 2016, through December 31, 2016.

DATES: Applicable March 28, 2018.

FOR FURTHER INFORMATION CONTACT: Keith A. Haynes or Laurel LaCivita at AD/CVD Operations, Office III, Enforcement & Compliance, International Trade Administration, Department of Commerce, 1401 Constitution Avenue NW, Washington, DC 20230; telephone: (202) 482-5139 or (202) 482-4243, respectively.

SUPPLEMENTARY INFORMATION:

Background

On January 11, 2018, based on a timely request by Sunrise Stainless Private Limited, Sun Mark Stainless Pvt. Ltd., and Shah Foils Ltd. (collectively, Sunrise Group), and Hindustan Inox Ltd., Commerce published in the Federal Register a notice of initiation of an administrative review of the countervailing duty order on WSPP from India with respect to two companies, Sunrise Group and Hindustan Inox Ltd.¹ On January 19, 2018, and February 3, 2018, pursuant to 19 CFR 351.213(d)(1), Sunrise Group and Hindustan Inox Ltd., respectively, timely withdrew their requests for an administrative review.² No other party requested a review of this order.

¹ See Initiation of Antidumping and Countervailing Duty Administrative Reviews, 83 FR 1329 (January 11, 2018); see also amendment to the initiation published in Initiation of Antidumping and Countervailing Duty Administrative Reviews, 83 FR 11685 (March 16, 2018).

² See Sunrise Group's Letter, “Welded Stainless Pressure Pipe from India from India: Withdrawal of Request for Administrative Review of Countervailing Duty of Sunrise Stainless Private Limited, Sun Mark Stainless Pvt. Ltd., and Shah Foils Ltd.,” dated January 19, 2018; see also Hindustan Inox Ltd.'s Letter, “Welded Stainless Pressure Pipe from India: Withdrawal of Request for Administrative Review of Countervailing Duty of Hindustan Inox Ltd.,” dated February 3, 2018.

Commerce exercised its discretion to toll all deadlines affected by the closure of the Federal Government from January 20 through 22, 2018. If the new deadline falls on a non-business day, in accordance with Commerce's practice, the deadline will become the next business day.³

³ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Rescission of Administrative Review

Pursuant to 19 CFR 351.213(d)(1), Commerce will rescind an administrative review, in whole or in part, if the party that requested the review withdraws the request within 90 days of the date of publication of the notice of initiation of the requested review. Sunrise Group and Hindustan Inox Ltd. withdrew their respective review requests by the 90-day deadline, and no other parties requested an administrative review of this order. Therefore, we are rescinding the administrative review of the countervailing duty order on WSPP from India covering the period March 11, 2016, to December 31, 2016, in its entirety.

Assessment

Commerce will instruct U.S. Customs and Border Protection (CBP) to assess countervailing duties on all appropriate entries. Because Commerce is rescinding this administrative review in its entirety, the entries to which this administrative review pertains shall be assessed countervailing duties that are equal to the cash deposits of estimated countervailing duties required at the time of entry, or withdrawal from warehouse, for consumption, in accordance with 19 CFR 351.212(c)(1)(i). Commerce intends to issue appropriate assessment instructions to CBP within 15 days after the publication of this notice in the Federal Register.

Administrative Protective Orders

This notice also serves as the only reminder to parties subject to administrative protective order (APO) of their responsibility concerning the return or destruction of proprietary information disclosed under APO, in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

This notice is issued and published in accordance with sections 751(a)(1) and 777(i)(1) of the Tariff Act of 1930, as amended, and 19 CFR 351.213(d)(4).

Dated: March 22, 2018.
James Maeder,
Associate Deputy Assistant Secretary for Antidumping and Countervailing Duty Operations performing the duties of Deputy Assistant Secretary for Antidumping and Countervailing Duty Operations.

[FR Doc. 2018-06150 Filed 3-27-18; 8:45 am]

BILLING CODE 3510-DS-P